DEPARTMENT OF TRANSPORTATION

Federal Transit Administration

[FTA Docket No. FTA 2024-0019]

Agency Information Collection Activity Under OMB Review: Transit COVID-19 Response Program

AGENCY: Federal Transit Administration, Department of Transportation (DOT).

ACTION: Notice of request for comments.

SUMMARY: In compliance with the Paperwork Reduction Act of 1995, this notice announces that the Information Collection Requirements (ICRs) abstracted below have been forwarded to the Office of Management and Budget (OMB) for review and comment. The ICR describe the nature of the information collection and their expected burdens.

DATES: Comments must be submitted on or before January 29, 2025.

ADDRESSES: Written comments and recommendations for the proposed information collection should be sent within 30 days of publication of this notice to https://www.reginfo.gov/public/do/PRAMain. Find this particular information collection by selecting “Currently under Review—Open for Public Comments” or by using the search function.

Comments are Invited On: Whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology. A comment to OMB is best assured of having its full effect if OMB receives it within 30 days of publication of this notice in the Federal Register.

FOR FURTHER INFORMATION CONTACT: Tia Swain, Office of Administration, Management Planning Division, 1200 New Jersey Avenue SE, Mail Stop TAD-10, Washington, DC 20590 (202) 366-0354 or tia.swain@dot.gov.

SUPPLEMENTARY INFORMATION: The Paperwork Reduction Act of 1995 (PRA), Public Law 104-13, section 2, 109 Stat. 163 (1995) (codified as revised at 44 U.S.C. 3501-3520), and its implementing regulations, 5 CFR part 1320, require Federal agencies to issue two notices seeking public comment on information collection activities before OMB may approve paperwork packages. 44 U.S.C. 3506, 3507; 5 CFR 1320.5, 1320.8(d)(1), 1320.12. On October 24, 2024, FTA published a 60-day notice (89 FR 85000) in the Federal Register soliciting comments on the ICR that the agency was seeking OMB approval. FTA received (1) comment after issuing this 60-day notice. Accordingly, DOT announces that these information collection activities have been re-evaluated and certified under 5 CFR 1320.5(a) and forwarded to OMB for review and approval pursuant to 5 CFR 1320.12(c).

Before OMB decides whether to approve these proposed collections of information, it must provide 30 days for public comment. 44 U.S.C. 3507(b); 5 CFR 1320.12(d). Federal law requires OMB to approve or disapprove paperwork packages between 30 and 60 days after the 30-day notice is published. 44 U.S.C. 3507 (b)-(c); 5 CFR 1320.12(d); see also 60 FR 44978, 44983. OMB believes that the 30-day notice informs the regulated community to file relevant comments and affords the agency adequate time to digest public comments before it renders a decision. 60 FR 44983. Therefore, respondents should submit their respective comments to OMB within 30 days of publication to best ensure having their full effect. 5 CFR 1320.12(c); see also 60 FR 44983.

The summaries below describe the nature of the information collection requirements (ICRs) and the expected burden. The requirements are being submitted for clearance by OMB as required by the PRA.

Title: Transit COVID-19 Response Program.

OMB Control Number: 2132-0581.

Background: In accordance with the Paperwork Reduction Act (PRA) of 1995, the Federal Transit Administration (FTA) is requesting a three-year approval without change of an existing information collection from the Office of Management and Budget (OMB). Although the Public Health Emergency for the COVID-19 pandemic ended in May 2023 and the FTA discontinued COVID-19 reporting requirements in September 2022, the FTA is seeking to renew this information collection to ensure that an existing framework can be readily updated to address future health emergencies. This renewal would allow the FTA to respond more swiftly to future public health emergencies by gathering data on their impact on the transit industry.

FTA began collecting monthly data in April 2021 related to impacts from the coronavirus disease 2019 (COVID-19) on public transportation agencies, including transit workforce counts; transit service levels; counts of COVID-19 positives, fatalities, recoveries, and unvaccinated employees; whether or not a transit agency has implemented the U.S. Centers for Disease Control and Prevention (CDC) Order and Transportation Security Administration (TSA) Security Directive requiring workers and passengers to wear masks; and whether or not the agency used FTA funds to support vaccine access services. FTA used this data to inform FTA's COVID-19 response and recovery actions, including monitoring of safety measures and impacts, development of technical assistance and safety advisories, monitoring use of FTA grant funds to address COVID-19 considerations, and monitoring compliance with Federal requirements.

Current Action: Extension without change of a currently approved collection.

Respondents: Recipients and sub-recipients of FTA funds under the Urbanized Area Formula Funding program or the Formula Grants for Rural Areas program that operate transit systems or pass-through funds to sub-recipients that operate transit systems. Recipients of FTA funds under the Enhanced Mobility of Seniors and Individuals with Disabilities program were requested to provide this information on a voluntary basis.

Estimated Total Annual Respondents: 2,390.

Estimated Annual Total Responses: 28,680.

Estimated Annual Burden Hours on Respondents: 10,356.

Frequency: As needed.

Kusum Dhyani,
Director, Office of Management Planning.

[FR Doc. 2024-31194 Filed 12-27-24; 8:45 am]

BILLING CODE 4910-57-P